DEPARTMENT OF LABOR

Employment and Training Administration

[TA-W-63,924; TA-W-63,924A]

Boise Cascade, LLC, Wood Products Division, La Grande Lumber Mill, La Grande, OR; Boise Cascade, LLC, Wood Products Division, La Grande Particleboard, La Grande, OR; Notice of Revised Determination on Reconsideration

On November 14, 2008, the Department issued an Affirmative Determination Regarding Application on Reconsideration applicable to workers and former workers of the subject firm. The notice was published in the Federal Register on November 25, 2008 (73 FR 71693).

The previous investigation initiated on August 25, 2008, resulted in a negative determination issued on October 1, 2008, was based on the finding that imports of softwood lumber and particleboard did not contribute importantly to worker separations at the subject firm and no shift in production to a foreign source occurred. The denial notice was published in the Federal Register on October 20, 2008 (73 FR 62323).

On reconsideration, the Department requested an additional list of customers of the subject firm and conducted a customer survey to determine whether imports of lumber and particleboard negatively impacted employment at the subject firms.

Upon further investigation, after receiving the customer list it was determined that Boise Cascade, LLC, Wood Products Division, La Grande Lumber Mill, La Grande, Oregon (TA-W-63,924) supplied component parts for window and door frames and a loss of business with a manufacturer of window and door frames whose workers were certified eligible to apply for adjustment assistance contributed importantly to the separation or threat of separation of workers at Boise Cascade, LLC, Wood Products Division, La Grande Lumber Mill, La Grande, Oregon (TA-W-63,924).

Furthermore, the survey of the major declining customers of Boise Cascade, LLC, Wood Products Division, La Grande Particleboard, La Grande, Oregon (TA-W-63,924A) revealed that the major declining customer increased its reliance on imports of particleboard while decreasing purchases from the subject firm from 2006 to 2007 and during January through August 2008 over the corresponding 2007 period.

In accordance with Section 246 the Trade Act of 1974 (26 U.S.C. 2813), as amended, the Department of Labor herein presents the results of its investigation regarding certification of eligibility to apply for alternative trade adjustment assistance (ATAA) for older workers.

In order for the Department to issue a certification of eligibility to apply for ATAA, the group eligibility requirements of Section 246 of the Trade Act must be met. The Department has determined in this case that the requirements of Section 246 have been met.

A significant number of workers at the firm are age 50 or over and possess skills that are not easily transferable. Competitive conditions within the industry are adverse.

Conclusion

After careful review of the additional facts obtained on reconsideration, I determine that workers of Boise Cascade, LLC, Wood Products Division, La Grande Lumber Mill, La Grande, Oregon (TA-W-63,924), qualify as adversely affected secondary workers under Section 222 of the Trade Act of 1974, as amended, and that an increased reliance on imports of articles like or directly competitive with those produced at Boise Cascade, LLC, Wood Products Division, La Grande Particleboard, La Grande, Oregon (TA-W-63,924A), contributed importantly to the declines in sales or production and to the total or partial separation of workers at the subject firm. In accordance with the provisions of the Act, I make the following certification:

All workers of Boise Cascade, LLC, Wood Products Division, La Grande Lumber Mill, La Grande, Oregon (TA-W-63,924), and all workers of Boise Cascade, LLC, Wood Products Division, La Grande Particleboard, La Grande, Oregon (TA-W-63,924A), who became totally or partially separated from employment on or after August 20, 2007, through two years from the date of this certification, are eligible to apply for adjustment assistance under Section 223 of the Trade Act of 1974, and are eligible to apply for alternative trade adjustment assistance under Section 246 of the Trade Act of 1974.

Signed in Washington, DC, this 26th day of January 2009.
Elliott S. Kushner,
Certifying Officer, Division of Trade Adjustment Assistance.

[FR Doc. E9-2734 Filed 2-9-09; 8:45 am]

BILLING CODE 4510-FN-P